DEPARTMENT OF TRANSPORTATION

Federal Aviation Administration

14 CFR Part 39

[Docket No. FAA-2012-1158; Directorate Identifier 2011-NM-232-AD; Amendment 39-17501; AD 2013-13-13]

RIN 2120-AA64

Airworthiness Directives; Airbus Airplanes

AGENCY: Federal Aviation Administration (FAA), Department of Transportation (DOT).

ACTION: Final rule.

SUMMARY: We are adopting a new airworthiness directive (AD) for all Airbus Model A310 series airplanes; and Model A300 B4-600, B4-600R, and F4-600R series airplanes, and Model A300 C4-605R Variant F airplanes (collectively called A300-600 series airplanes). This AD was prompted by the revision of certain airworthiness limitation items (ALI) documents, which require more restrictive maintenance requirements and airworthiness limitations. This AD requires revising the maintenance or inspection program to incorporate the limitations section. We are issuing this AD to prevent fatigue cracking, damage, or corrosion in principal structural elements, which could result in reduced structural integrity of the airplane.

DATES: This AD becomes effective September 23, 2014.

The Director of the Federal Register approved the incorporation by reference of certain publications listed in this AD as of September 23, 2014.

ADDRESSES: You may examine the AD docket on the Internet at http://www.regulations.gov/#!docketDetail;D=FAA-2012-1158 or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to all Airbus Model A300 and A310 series airplanes; and Model A300 B4-600, B4-600R, and F4-600R series airplanes, and Model A300 C4-605R Variant F airplanes (collectively called A300-600 series airplanes). The NPRM was intended to supersede AD 2011-10-17, Amendment 39-16698 (76 FR 27875, May 13, 2011). The NPRM published in the Federal Register on November 7, 2012 (77 FR 66772). The NPRM was prompted by the revision of certain airworthiness limitation items (ALI) documents, which require more restrictive maintenance requirements and airworthiness limitations. The NPRM proposed to require revising the maintenance program to incorporate the limitations section. We are issuing this AD to prevent fatigue cracking, damage, or corrosion in principal structural elements, which could result in reduced structural integrity of the airplane.

The European Aviation Safety Agency (EASA), which is the Technical Agent for the Member States of the European Community, issued EASA Airworthiness Directive 2011-0198, dated October 19, 2011 (referred to after this as the Mandatory Continuing Airworthiness Information, or “the MCAI”), to correct an unsafe condition all Airbus Model A300 and A310 series airplanes; and Model A300 B4-600, B4-600R, and F4-600R series airplanes, and Model A300 C4-605R Variant F airplanes (collectively called A300-600 series airplanes). The MCAI states:

The airworthiness limitations applicable to the Damage Tolerant Airworthiness Limitation Items (DT ALIs) are currently listed in Airbus ALI Documents, which are referenced in the A300, A310 and A300-600 Airworthiness Limitations Section (ALS) Part 2.

Airbus have recently revised the A300-600 and A310 ALI Documents, and these issues have been approved by EASA. The Airbus A300-600 ALI Document issue 13 and temporary revision (TR) 13.1 and the A310 ALI document issue 08 introduce more restrictive maintenance requirements and airworthiness limitations, which have been identified as mandatory actions for continued airworthiness.

EASA AD 2009-0155 [which corresponds to FAA AD 2011-10-17, Amendment 39-16698 (76 FR 27875, May 13, 2011)] required compliance with the maintenance requirements and associated airworthiness limitations defined in the following documents:

—AIRBUS A300 ALI Document issue 04,

—AIRBUS A310 ALI Document issue 07, and

—AIRBUS A300-600 ALI Document issue 12.

For the reasons described, this EASA AD retains the requirements of EASA AD 2009-0155, which is superseded, and requires compliance with the airworthiness limitations defined in the Airbus A300-600 ALI Document issue 13 and TR13.1, and the A310 ALI document issue 08.

You may examine the MCAI in the AD docket on the Internet at http://www.regulations.gov/#!documentDetail;D=FAA-2012-1158-0002.

Actions Since NPRM (77 FR 66772, November 7, 2012)

The NPRM (77 FR 66772, November 7, 2012) proposed to supersede AD 2011-10-17, Amendment 39-16698 (76 FR 27875, May 13, 2011). However, the new actions introduced in the NPRM and required by this final rule apply only to Model A310 and A300-600 series airplanes. The actions required for Model A300 series airplanes that are required by AD 2011-10-17 are not affected by this AD. AD 2011-10-17 therefore remains in effect in its entirety for Model A300, A300-600, and A310 series airplanes. The requirements of this final rule include only the new actions, and apply only to Model A310 and A300-600 series airplanes.

Comments

We gave the public the opportunity to participate in developing this AD. We have considered the comments received.

Request for Clarification of Compliance Times

UPS requested clarification of the compliance times for the maintenance program revision and the initial inspection. UPS noted that operators have 3 months to complete both the maintenance program revision and the initial inspections. UPS stated that the current wording indicates that the two tasks are to be accomplished concurrently, and cannot be accomplished until approved by the principal maintenance inspector. UPS added that concurrent accomplishment of the two actions is not feasible and requested that accomplishment of these two actions be consecutive rather than concurrent.

We agree to provide clarification. The commenter's statement that operators have 3 months to complete both the maintenance program revision and initial inspections is not accurate. As specified in paragraph (g) of this AD, operators have 3 months to revise the maintenance or inspection program, as applicable. However, the compliance time for the initial inspections is at the times in the applicable service information identified in paragraphs (g)(1), (g)(1)(i)(A), and (g)(2) of this AD, or within 3 months after the effective date of this AD, whichever occurs later.

For the service information identified in paragraphs (g)(1) and (g)(2) of this AD, there are also compliance times specified in paragraph 3., “Special Compliance Times,” in the “Record of Revisions” section of the service information, which provide compliance times relative to the approval date or publication date of the service information. We have determined that those compliance times should be relative to the effective date of this AD; therefore, we have added compliance time exceptions to paragraphs (g)(1)(i)(B) and (g)(2)(i) of this AD. We have determined that extending these compliance times will provide an acceptable level of safety.

Request To Extend Grace Period and Repetitive Intervals

UPS requested that the proposed grace period and repetitive intervals be extended to be equivalent to the requirements of AD 2011-10-17, Amendment 39-16698 (76 FR 27875, May 13, 2011). UPS commented that the proposed compliance times are overly conservative and are not supported by industry data.

We do not agree with the commenter's request to extend the grace period and repetitive intervals. Airbus revised the ALIs based upon analysis and data. Under the provisions of paragraph (j) of this final rule, however, we will consider requests for approval of an extension of the compliance time if sufficient data are submitted to substantiate that a different compliance time would provide an acceptable level of safety. We have not changed this final rule in this regard.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the action must be accomplished using a method approved by the FAA, the European Aviation Safety Agency (EASA), or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the available data, including the comments received, and determined that air safety and the public interest require adopting the AD with the changes described previously and minor editorial changes. We have determined that these minor changes:

• Are consistent with the intent that was proposed in the NPRM (77 FR 66772, November 7, 2012) for correcting the unsafe condition; and

• Do not add any additional burden upon the public than was already proposed in the NPRM (77 FR 66772, November 7, 2012).

We also determined that these changes will not increase the economic burden on any operator or increase the scope of this AD.

Costs of Compliance

We estimate that this AD affects 170 airplanes of U.S. registry.

We estimate that it will take about 1 work-hour per product to comply with the new basic requirements of this AD. The average labor rate is $85 per work-hour. Based on these figures, we estimate the cost of this AD on U.S. operators to be $14,450, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2012-1158; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-13-13 Airbus Airplanes: Amendment 39-17501. Docket No. FAA-2012-1158; Directorate Identifier 2011-NM-232-AD.

(a) Effective Date

This AD becomes effective September 23, 2014.

(b) Affected ADs

This AD affects AD 2011-10-17, Amendment 39-16698 (76 FR 27875, May 13, 2011).

(c) Applicability

This AD applies to all Airbus model airplanes identified in paragraphs (c)(1) and (c)(2) of this AD, certificated in any category.

(1) Model A310-203, -204, -221, -222, 304, -322, -324, and -325 airplanes.

(2) Model A300 B4-601, B4-603, B4-620, B4-622, B4-605R, B4-622R, F4-605R, F4-622R, and C4-605R Variant F airplanes.

(d) Subject

Air Transport Association (ATA) of America Code 57, Wings.

(e) Reason

This AD was prompted by revisions of certain Airbus Airworthiness Limitation Items (ALI) documents, which require more restrictive maintenance requirements and airworthiness limitations. We are issuing this AD to prevent fatigue cracking, damage, or corrosion in principal structural elements, which could result in reduced structural integrity of the airplane.

(f) Compliance

Comply with this AD within the compliance times specified, unless already done.

(g) Maintenance or Inspection Program Revision

(1) For Model A300-600 series airplanes: Within 3 months after the effective date of this AD, revise the maintenance or inspection program, as applicable, to incorporate the structural inspections and inspection intervals defined in Airbus A300-600 Airworthiness Limitation Items Document AI/SE-M2/95A.1310/07, Issue 13, dated October 2010. The initial compliance time for accomplishing the inspections is at the later of the times specified in paragraphs (g)(1)(i) and (g)(1)(ii) of this AD.

(i) At the applicable times specified in Airbus A300-600 Airworthiness Limitation Items Document AI/SE-M2/95A.1310/07, Issue 13, dated October 2010, except as specified in paragraphs (g)(1)(i)(A) and (g)(1)(i)(B) of this AD.

(A) For actions identified in Airbus A300-600 Airworthiness Limitation Items Document AI/SE-M2/95A.1310/07, Issue 13, dated October 2010; and Airbus TR 13.1, dated February 2011, to the Airbus A300-600 Airworthiness Limitation Items Document AI/SE-M2/95A.1310/07, Issue 13, dated October 2010: Use the applicable compliance time specified in Airbus Temporary Revision (TR) 13.1, dated February 2011, to the Airbus A300-600 Airworthiness Limitation Items Document AI/SE-M2/95A.1310/07, Issue 13, dated October 2010.

(B) Where compliance times in paragraph 3., “Special Compliance Times,” in the “Record of Revisions” section of Airbus A300-600 Airworthiness Limitation Items Document AI/SE-M2/95A.1310/07, specify “from approval date of A300-600 ALI Document Issue 13,” “from date approval of A300-600 ALI Document Issue 13,” or “from A300-600 ALI Document Issue date of publication,” for this AD use “after the effective date of this AD” for those compliance times.

(ii) Within 3 months after the effective date of this AD.

(2) For Model A310 series airplanes: Within 3 months after the effective date of this AD, revise the maintenance or inspection program, as applicable, to incorporate the structural inspections and inspection intervals defined in Airbus A310 Airworthiness Limitation Items Document AI/SE-M2/95A.1309/07, Issue 8, dated October 2010. The initial compliance time for accomplishing the inspections is at the later of the times specified in paragraph (g)(2)(i) and (g)(2)(ii) of this AD.

(i) At the applicable times specified in Airbus A310 Airworthiness Limitation Items Document AI/SE-M2/95A.1309/07, Issue 8, dated October 2010; except where compliance times in paragraph 3., “Special Compliance Times,” in the “Record of Revisions” section of Airbus A310 Airworthiness Limitation Items Document AI/SE-M2/95A.1309/07, Issue 8, dated October 2010, specify “from date of approval of ALI Document Issue 8,” or “from date approval of the ALI document Issue 8,” for this AD use “after the effective date of this AD” for those compliance times.

(ii) Within 3 months after the effective date of this AD.

(h) Terminating Action for AD 2011-10-17, Amendment 39-16698 (76 FR 27875, May 13, 2011)

Accomplishing the revision required by paragraph (g) of this AD terminates the actions required by paragraph (s) of AD 2011-10-17, Amendment 39-16698 (76 FR 27875, May 13, 2011) for that airplane only.

(i) New Alternative Inspections and Inspection Intervals Limitation

After accomplishing the revision required by paragraph (g) of this AD, no alternative actions (e.g., inspections) or intervals may be used unless the actions or intervals are approved as an alternative method of compliance (AMOC) in accordance with the procedures specified in paragraph (j) of this AD.

(j) Other FAA AD Provisions

The following provisions also apply to this AD:

(1) Alternative Methods of Compliance (AMOCs): The Manager, International Branch, ANM-116, Transport Airplane Directorate, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

Refer to Mandatory Continuing Airworthiness Information (MCAI) EASA Airworthiness Directive 2011-0198, dated October 19, 2011, for related information. You may examine the MCAI in the AD docket on the Internet at http://www.regulations.gov/#!docketDetail;D=FAA-2012-1158-0002.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A300-600 Airworthiness Limitation Items Document AI/SE-M2/95A.1310/07, Issue 13, dated October 2010.

(ii) Airbus A310 Airworthiness Limitation Items Document AI/SE-M2/95A.1309/07, Issue 8, dated October 2010. Page APXD-362 (which contains Illustration 2 of 2 of Figure 575141) of this document does not contain an issue date or page number.

(iii) Airbus Temporary Revision 13.1, dated February 2011, to Airbus A300-600 Airworthiness Limitation Items Document AI/SE-M2/95A.1310/07, Issue 13, dated October 2010.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 30, 2014.
Jeffrey E. Duven,
Manager, Transport Airplane Directorate, Aircraft Certification Service.

[FR Doc. 2014-18906 Filed 8-18-14; 8:45 am]

BILLING CODE 4910-13-P